SMALL BUSINESS ADMINISTRATION

[Declaration of Disaster #3410]

State of Ohio; Disaster Loan Areas

Stark County and the contiguous Counties of Carroll, Columbiana, Holmes, Mahoning, Portage, Summit, Tuscarawas and Wayne in the State of Ohio constitute a disaster area due to damages caused by a tornado, high winds and severe thunderstorms that occurred April 28, 2002. Applications for loans for physical damage may be filed until the close of business on July 8, 2002, and for economic injury until the close of business on February 7, 2003, at the address listed below or other locally announced locations: U.S. Small Business Administration, Disaster Area 2 Office, One Baltimore Place, Suite 300, Atlanta, GA 30308.

The interest rates are:

| Percent
For Physical Damage:
Homeowners with credit available elsewhere | 6.750
Homeowners without credit available elsewhere | 3.375
Businesses with credit available elsewhere | 7.000
Businesses and non-profit organizations without credit available elsewhere | 3.500
Others (including non-profit organizations) with credit available elsewhere | 6.375
For Economic Injury:
Businesses and small agricultural cooperatives without credit available elsewhere | 3.500

The number assigned to this disaster for physical damage is 341012 and for economic injury is 9P5300.

(Catalog of Federal Domestic Assistance Program Nos. 59002 and 59008)
Dated: May 7, 2002.
Hector V. Barreto,
Administrator.

[FR Doc. 02-11926 Filed 5-10-02; 8:45 am]

BILLING CODE 8025-01-P